DEPARTMENT OF COMMERCE

National Oceanic and Atmospheric Administration

RIN 0648-XG414

Mid-Atlantic Fishery Management Council (MAFMC); Public Hearings

AGENCY: National Marine Fisheries Service (NMFS), National Oceanic and Atmospheric Administration (NOAA), Commerce.

ACTION: Notice of rescheduling of public hearings.

SUMMARY: The Mid-Atlantic Fishery Management Council (Council), jointly with the Atlantic States Marine Fisheries Commission (Commission's) Summer Flounder, Scup, and Black Sea Bass Board (Board), has rescheduled three public hearings for the Draft Summer Flounder Commercial Issues and Goals and Objectives Amendment to the Summer Flounder, Scup, and Black Sea Bass Fishery Management Plan (FMP). These three hearings were previously scheduled for September 12 and 13 in Washington, NC, Newport News, VA, and Dover, DE, and have been postponed due to inclement weather associated with Hurricane Florence.

DATES: The rescheduled hearings will be held on September 24 and September 26, 2018. The written public comment deadline is unchanged: Comments must be received on or before 11:59 p.m. EST, October 12, 2018. For specific dates and times of rescheduled hearings, see SUPPLEMENTARY INFORMATION.

ADDRESSES: The hearing schedule and documents are accessible electronically via the internet at: http://www.mafmc.org/actions/summer-flounder-amendment or by request to Dr. Chris Moore, Executive Director, Mid-Atlantic Fishery Management Council, 800 N State Street, Suite 201, Dover, DE 19901; telephone: (302) 674-2331.

Meeting addresses: The rescheduled public hearings will be held in Dover, DE; Newport News, VA; and Washington, NC. For specific locations, see SUPPLEMENTARY INFORMATION.

FOR FURTHER INFORMATION CONTACT: Christopher M. Moore, Ph.D., Executive Director, Mid-Atlantic Fishery Management Council, telephone: (302) 526-5255.

SUPPLEMENTARY INFORMATION: The Mid-Atlantic Fishery Management Council and the Atlantic States Marine Fisheries Commission scheduled 10 public hearings on an amendment to the Summer Flounder, Scup, and Black Sea Bass FMP, known as the “Summer Flounder Commercial Issues and Goals and Objectives Amendment.” A notice of these hearings published in the Federal Register on August 17, 2018 (83 FR 41060). Three of the ten hearings have been postponed due to inclement weather associated with Hurricane Florence, and the location of the Dover, DE hearing has changed. The rescheduled hearings are as follows:

1. The Washington, NC hearing originally scheduled for September 12 has been rescheduled for Monday, September 24, 2018, 6 p.m., at the North Carolina Division of Marine Fisheries, Washington Regional Office, 943 Washington Square Mall, U.S. Highway 17, Washington, NC 27889.

2. The Dover, DE hearing originally scheduled for September 13 has been rescheduled for Wednesday, September 26, 2018, 6 p.m., and the hearing location has been moved to the Dover Public Library, Meeting Room B, 35 Loockerman Plaza, Dover, DE 19901.

3. The Newport News, VA hearing originally scheduled for September 13 has been rescheduled for Wednesday, September 26, 2018, 7 p.m., at the Virginia Marine Resources Commission, 2600 Washington Avenue, 4th Floor, Newport News, VA 23607.

Additional information and amendment documents are available at: http://www.mafmc.org/actions/summer-flounder-amendment.

Special Accommodations

These meetings are physically accessible to people with disabilities. Requests for sign language interpretation or other auxiliary aids should be directed to M. Jan Saunders at the Mid-Atlantic Council Office (302) 526-5251 at least 5 days prior to the meeting date.

Dated: September 12, 2018.
Tracey L. Thompson,
Acting Deputy Director, Office of Sustainable Fisheries, National Marine Fisheries Service.

[FR Doc. 2018-20132 Filed 9-14-18; 8:45 am]

BILLING CODE 3510-22-P